DEPARTMENT OF THE INTERIOR

Bureau of Land Management

[UT-030-02-1220-DE-241A]

Notice of Temporary Closure of Public Lands

AGENCY: Bureau of Land Management, Interior.

ACTION: Notice of temporary closure of public lands.

SUMMARY: Certain lands in the Grand Staircase-Escalante National Monument are being temporarily closed to rock climbing activities to protect active peregrine falcon nesting sites. Closures may occur annually during nesting season.

SUPPLEMENTARY INFORMATION: Under the provisions of 43 CFR part 8364 and the Grand Staircase-Escalante National Monument Management Plan, Decisions CLMB-1 and CLMB 2, notice is hereby given of a temporary closure of portions of public lands to rock climbing activities within Grand Staircase-Escalante National Monument. The present closure area includes: the Long Canyon portion of the Burr Trail, and the Escalante River upstream from the Highway 12 bridge; all lands within a one mile radius of any active peregrine falcon nest(s). The closure shall be in effect from March 1 to August 31, 2002 and each subsequent year that active nest sites are identified. The closure includes all forms of rock climbing including free climbing, bouldering and climbing using ropes and hardware. Closure notices identifying the area(s) closed and dates of closure will be posted at the identified locations when active nests are identified. Should additional active peregrine falcon or other birds of prey nest sites be identified, similar temporary closures would be implemented.

FOR FURTHER INFORMATION CONTACT: Bill Falvey, Wildlife Biologist, GSENM, at 435-826-5613 or bill_falvey@blm.gov.

Dated: July 29, 2002.
David B. Hunsaker,
Acting Monument Manager.

[FR Doc. 02-23045 Filed 9-10-02; 8:45 am]

BILLING CODE 4310-84-P